DEPARTMENT OF ENERGY

Federal Energy Regulatory Commission

[Docket No. RC11-6-011]

North American Electric Reliability Corporation; Notice of Filing

Take notice that on December 30, 2020, the North American Electric Reliability Corporation submitted an annual report on Find, Fix, Track and Report and Compliance Exception programs, in accordance with the Federal Energy Regulatory Commission's (Commission) Orders.¹

¹ North American Electric Reliability Corp., Order Accepting With Conditions the Electric Reliability Organization's Petition Requesting Approval of New Enforcement Mechanisms and Requiring Compliance Filing, 138 FERC 61,193 (2012) (March 2012 Order).

North American Electric Reliability Corp., Order on Compliance Filing, 143 FERC 61,253 (2013) (June 2013 Order).

North American Electric Reliability Corp., Order on Compliance Filing, 148 FERC 61,214 (2014) (September 2014 Order).

North American Electric Reliability Corp., Docket No. RC11-6-004 (Nov. 13, 2015) (delegated letter order) (November 2015 Order).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE, Washington, DC 20426.

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Comment Date: 5:00 p.m. Eastern Time on January 20, 2021.

Dated: January 5, 2021.
Nathaniel J. Davis, Sr.,
Deputy Secretary.

[FR Doc. 2021-00256 Filed 1-8-21; 8:45 am]

BILLING CODE 6717-01-P